DEPARTMENT OF THE INTERIOR

Fish and Wildlife Service

Receipt of Application of Endangered Species Recovery Permits

AGENCY: Fish and Wildlife Service, Interior.

ACTION: Notice of availability and receipt of applications.

SUMMARY: We announce our receipt of applications to conduct certain activities pertaining to enhancement of survival of endangered species.

DATES: Written comments on this request for a permit must be received by March 19, 2007.

ADDRESSES: Written data or comments should be submitted to the Assistant Regional Director, Fisheries-Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 30 days of the date of publication of this notice to Kris Olsen, by mail or by telephone at 303-236-4256. All comments received from individuals become part of the official public record.

SUPPLEMENTARY INFORMATION: The following applicants have requested issuance of enhancement of survival permits to conduct certain activities with endangered species pursuant to section 10(a)(1)(A) of the Endangered Species Act of 1973, as amended (16 U.S.C. 1531 et seq.).

Applicant—Colorado State University, Larval Fish Laboratory, Fort Collins, Colorado, TE-056079. The applicant requests a renewed permit to take Colorado pikeminnow (Ptychocheilus lucius) in conjunction with recovery activities throughout the species' range for the purpose of enhancing its survival and recovery.

Applicant—Prairie Wildlife Research, Inc., Wellington, Colorado, TE-064682. The applicant requests a renewed permit to take black-footed ferret (Mustela nigripes) in conjunction with recovery activities throughout the species' range for the purpose of enhancing its survival and recovery.

Applicant—Bureau of Land Management, Moab Field Office, Moab, Utah, TE-59105. The applicant requests a renewed permit to take Southwestern willow flycatcher (Empidonax traillii extimus) in conjunction with recovery activities throughout the species' range for the purpose of enhancing its survival and recovery.

Applicant—Toledo Zoological Gardens, Toledo, Ohio, TE-052627. The applicant requests a renewed permit to take Wyoming toad (Bufo baxteri) in conjunction with recovery activities throughout the species' range for the purpose of enhancing its survival and recovery.

Applicant—East Dakota Water Development District, Brookings, South Dakota, TE-056001. The applicant requests a renewed permit to take Topeka shiner (Notropis topeka) in conjunction with recovery activities throughout the species' range for the purpose of enhancing its survival and recovery.

Applicant—Utah Division of Wildlife Resources, Department of Natural Resources, Salt Lake City, Utah, TE-047266. The applicant requests a renewed permit to take black-footed ferret (Mustela nigripes), bonytail (Gila elegans), Colorado pikeminnow (Ptychocheilus lucius), Humpback chub (Gila cypha), June sucker (Chasmistes liorus), razorback sucker (Xyrauchen texanus), Southwestern willow flycatcher (Empidonax traillii extimus), Virgin River chub (Gila robusta seminuda), and woundfin (Plagopterus argentissimus) in conjunction with recovery activities throughout the species' range for the purpose of enhancing their survival and recovery.

Applicant—Denver Botanic Gardens, Denver, Colorado, TE-106182. The applicant requests a renewed permit to take San Rafael cactus (Pediocactus despainii) in conjunction with recovery activities throughout the species' range for the purpose of enhancing its survival and recovery.

Applicant—HDR Engineering, Salt Lake City, Utah, TE-058896. The applicant requests a renewed permit to take Southwestern willow flycatcher (Empidonax traillii extimus) in conjunction with recovery activities throughout the species' range for the purpose of enhancing its survival and recovery.

Applicant—Red Butte Botanic Garden and Arboretum, Salt Lake City, Utah, TE-049109. The applicant requests a renewed permit to take Autumn buttercup (Ranunculus acriformis aestivalis), Barnaby reed-mustard (Schoenocrambe barnebyi), Barnaby ridge-cress (Lepidium barnebyanum), clay phacelia (Phacelia argillacea), Holmgren milk-vetch (Astragalus holmgreniorum), and Kodachrome bladderpod (Lesquerella tumulosa) in conjunction with recovery activities throughout the species' range for the purpose of enhancing their survival and recovery.

Applicant—Kansas Department of Health and Environment, Topeka, Kansas, TE-064685. The applicant requests a renewed permit to take Topeka shiner (Notropis topeka) and pallid sturgeon (Scaphirhynchus albus) in conjunction with recovery activities throughout the species' range for the purpose of enhancing their survival and recovery.

Applicant—Cedar Creek Associates, Fort Collins, Colorado, TE-050704. The applicant requests a renewed permit to take Southwestern willow flycatchers (Empidonax traillii extimus) in conjunction with recovery activities throughout the species' range for the purpose of enhancing its survival and recovery.

Applicant—Wildlife Specialties, Lyons, Colorado, TE-080647. The applicant requests a permit amendment to add surveys for Southwestern willow flycatchers (Empidonax traillii extimus) in Arizona, in conjunction with recovery activities throughout the species' range for the purpose of enhancing its survival and recovery.

Dated: January 29, 2007.
James J. Slack,
Deputy Regional Director, Denver, Colorado.

[FR Doc. E7-2750 Filed 2-15-07; 8:45 am]

BILLING CODE 4310-55-P